DEPARTMENT OF LABOR

Employment and Training Administration

[TA-W-38,174]

Paper, Calmenson & Company, Blades Division, Bucyrus, OH; Notice of Revised Determination on Reconsideration

On February 20, 2001, the Department issued a Notice of Affirmative Determination Regarding Application for Reconsideration applicable to workers and former workers of the subject firm. The notice was published in the Federal Register on March 2, 2001 (66 FR 13088).

The initial investigation for workers producing ground engaging tools at Paper, Calmenson & Company, Blades Division, Bucyrus, Ohio, revealed that sales, production and employment all increased prior to the August 2000, sale of the firm to Bucyrus Blades, Inc. The plant ceased production in October 2000.

On reconsideration, the import data submitted to the Department show that a portion of the plant production was replaced by imports of articles like or directly competitive with those produced at the subject firm.

Conclusion

After careful review of the additional facts obtained on reconsideration, I conclude that increased imports of articles like or directly competitive with ground engaging tools, contributed importantly to the declines in sales or production and to the total or partial separation of workers of Paper, Calmenson & Company, Blades Division, Bucyrus, Ohio. In accordance with the provisions of the Act, I make the following certification:

All workers of Paper, Calmenson & Company, Blades Division, Bucyrus, Ohio, who became totally or partially separated from employment on or after September 22, 1999, through two years from the date of certification, are eligible to apply for adjustment assistance under Section 223 of the Trade Act of 1974.

Signed in Washington, DC this 13th day of March, 2001.:
Linda G. Poole,
Certifying Officer, Division of Trade Adjustment Assistance.

[FR Doc. 01-8330 Filed 4-4-01; 8:45 am]

BILLING CODE 4510-30-M